FEDERAL COMMUNICATIONS COMMISSION

Schedule and Venue Change: FCC to Hold Open Commission Meeting in Atlanta, GA at 11 a.m.

September 14, 2005.

Please note that the time and venue for the Federal Communications Commission's September Open Meeting has changed.

As described in the Commission's Thursday, September 8th Notice, on Thursday, September 15th, the Commission will hold an open meeting. At this meeting, it will hear presentations from Commission staff and various industry representatives concerning their role in Hurricane Katrina recovery efforts. For the convenience of those testifying, the Federal Communications Commission will hold its meeting in Atlanta, Georgia at BellSouth Telecommunications Inc.’s Emergency Control Center located at the following address:

BellSouth Midtown I Building, 4th Floor, 754 Peachtree Street, Atlanta, Georgia 30309.

The meeting is scheduled to commence at 11 a.m. Seating is limited and will be on a first come, first serve basis.

The prompt and orderly conduct of Commission business permits less than 7-days notice be given.

Federal Communications Commission.
Marlene H. Dortch,
Secretary.

[FR Doc. 05-18693 Filed 9-15-05; 3:43 pm]

BILLING CODE 6712-01-P